DEPARTMENT OF AGRICULTURE

Agricultural Marketing Service

7 CFR Part 1207

[Doc. No. AMS-FV-09-0024; FV-09-706C]

Potato Research and Promotion Plan

AGENCY: Agricultural Marketing Service, USDA.

ACTION: Correcting amendments.

SUMMARY: The Agricultural Marketing Service is making corrections to its Potato Research and Promotion plan regulations to reflect the modification of the Harmonized Tariff Schedule for imported potatoes by U.S. Customs and Border Protection (Customs). This document also corrects Customs' name within 7 CFR part 1207.

DATES: Effective March 26, 2010.

FOR FURTHER INFORMATION CONTACT: Deborah Simmons, Marketing Specialist, Research and Promotion Branch, Fruit and Vegetable Programs, AMS, USDA, 1400 Independence Avenue, SW., Room 0632, Stop 0244, Washington, DC 20250-0244; telephone: (202) 720-9915; or fax: (202) 205-2800; or e-mail: Deborah.simmons@ams.usda.gov.

SUPPLEMENTARY INFORMATION: This amendment corrects 7 CFR part 1207, section 1207.510 Levy of Assessments paragraphs (b)(1) to correct the name of U.S. Customs and Border Protection and update HTS codes in the table that appears in paragraph (b)(3).

List of Subjects in 7 CFR Part 1207

Administrative practice and procedure, Advertising, Consumer information, Marketing agreements, Potatoes, Promotion, Reporting and recordkeeping requirements.

Accordingly, 7 CFR part 1207 is amended by making the following correcting amendments:

PART 1207—POTATO RESEARCH AND PROMOTION PLAN

1. The authority citation for 7 CFR part 1207 continues to read as follows:

Authority: 7 U.S.C. 2611-2627 and 7 U.S.C. 7401.

2. Section 1207.510 is amended by revising paragraph (b)(1), and the table in paragraph (b)(3) to read as follows:

§ 1207.510 Levy of assessments.

* * * * *

(b) * * *

(1) An Assessment rate of 3 cents per hundredweight shall be levied on all tablestock potatoes imported into the United States for ultimate consumption by humans and all seed potatoes imported into the United States. An assessment rate of 3 cents per hundredweight shall be levied on the fresh weight equivalents of imported frozen or processed potatoes for ultimate consumption by humans. The importer of imported tablestock potatoes, potato products, or seed potatoes shall pay the assessment to the Board through the U.S. Customs and Border Protection at the time of entry or withdrawal for consumption of such potatoes and potato products into the United States.

* * * * *

(3) * * *

Tablestock potatoes, frozen or processed potatoes, and seed potatoes | Assessment: Cents/cwt | Assessment: Cents/kg
0701.10.0020 | 3.0 | 0.066
0701.10.0040 | 3.0 | 0.066
0701.90.1000 | 3.0 | 0.066
0701.90.5015 | 3.0 | 0.066
0701.90.5025 | 3.0 | 0.066
0701.90.5035 | 3.0 | 0.066
0701.90.5045 | 3.0 | 0.066
0701.90.5055 | 3.0 | 0.066
0701.90.5065 | 3.0 | 0.066
0710.10.0000 | 6.0 | 0.132
2004.10.4000 | 6.0 | 0.132
2004.10.8020 | 6.0 | 0.132
2004.10.8040 | 6.0 | 0.132
2005.20.0070 | 4.716 | 0.104
0712.90.3000 | 21.429 | 0.472
1105.10.0000 | 21.429 | 0.472
1105.20.0000 | 21.429 | 0.472
2005.20.0040 | 21.429 | 0.472
2005.20.0020 | 12.240 | 0.27
1108.13.0010 | 27.0 | 0.595

* * * * *

Dated: March 16, 2010.
David R. Shipman,
Acting Administrator, Agricultural Marketing Service.

[FR Doc. 2010-6185 Filed 3-25-10; 8:45 am]

BILLING CODE 3410-02-P